DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Focus Groups on Consumer Engagement in Developing Electronic Health Information Systems.” In accordance with the Paperwork Reduction Act of 1995, Public Law 104-13 (44 U.S.C. 3506(c)(2)(A)), AHRQ invites the public to comment on this proposed information collection.

DATES: Comments on this notice must be received by February 26, 2008.

ADDRESSES: Written comments should be submitted to: Doris Lefkowitz, Reports Clearance Officer, AHRQ, by e-mail at doris.lefkowitz@ahrq.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@ahrq.hhs.gov.

SUPPLEMENTARY INFORMATION:

Proposed Project

“Focus Groups on Consumer Engagement in Developing Electronic Health Information Systems”

This project will consist of focus groups to gain insights into healthcare consumers' awareness and perceptions of Health Information Technology (IT), and how best to engage consumers in the development of these technologies. AHRQ has so far invested significant resources in initiatives to promote the planning and development of new Health IT that should improve healthcare, lower healthcare costs, and improve patient safety. For such benefits to be maximized, it is important to understand how consumers view Health IT and how to engage them in the design and implementation of future innovations.

AHRQ will conduct 20 focus groups (in addition to two pretest groups) with healthcare consumers, that is persons who have visited a healthcare provider (either for their own health or the health of a family member) in the previous two years. For the most part, the groups will be homogenous with respect to the presence or absence of either of the following characteristics: (a) Managing a chronic health condition (or the condition of a close family member), or (b) Having visited at least three healthcare providers in the past two years.

Participants will be covered by a range of health insurance plans, and persons not covered by health insurance will also be recruited. Some groups will include only persons enrolled in a Health Maintenance Organization (HMO).

The data to be collected for this project will be in two forms: (a) answers to a screener questionnaire designed to identify and recruit eligible participants, and (b) verbal reports—i.e., focus group participants' answers to questions posed by the moderator and reactions to comments of other group members. The focus group discussions will be audio-taped with participants' consent and transcribed for analysis purposes.

Method of Collection

Participants will be screened for eligibility and recruited for the focus groups by telephone. The focus group sessions will be conducted in-person with approximately 10 persons per group. The focus group discussion will take approximately 2 hours, and we have assumed a 20-minute travel time (each way) per participant. Thus, focus group participation will require 2.67 hours per response.

Estimated Annual Respondent Burden

Table 1.—Estimated annualized burden hours
Form name | Number of respondents | Number of responses per respondent | Hours per response | Total burden hours
Recruiting Screener | 2,200 | 1 | 5/60 | 183
Focus Group Discussion Guide | 220 | 1 | 2.67 | 587
Total | 2,420 | na | na | 770

Table 2.—Estimated annualized cost burden
Form name | Number of respondents | Total burden hours | Average hourly wage rate* | Total cost burden
Recruiting Screener | 2,200 | 183 | $17 | $3,111
Focus Group Discussion Guide | 220 | 587 | 17 | 9,979
Total | 2,420 | 770 | na | 13,090
*Based upon the mean hourly wage of full-time workers, third-quarter of 2007. Current Population Survey, U.S. Department of Labor, Bureau of Labor Statistics.

Estimated Annual Costs to the Federal Government

Based on the current budget for the project, the total cost to the Federal Government is $257,474 ($251,114 of contractor costs + $6,360 of travel and time cost for AHRQ employees) for the 18-month period from Oct. 1st, 2007 to March 31st, 2009. The annualized cost is approximately $171,649. This amount includes all direct and indirect costs of the design, data collection, analysis, and reporting phases of the study. The costs of Federal employees for monitoring the contract are $5,660.

Request for Comments

In accordance with the above-cited Paperwork Reduction Act legislation, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: December 17, 2007.
Carolyn M. Clancy,
Director.

[FR Doc. 07-6188 Filed 12-27-07; 8:45 am]

BILLING CODE 4160-90-M